DEPARTMENT OF AGRICULTURE

Grain Inspection, Packers and Stockyards Administration

[05-AZ-C]

Opportunity To Comment on the Applicant for the Southwest Arizona Area

AGENCY: Grain Inspection, Packers and Stockyards Administration (USDA).

ACTION: Notice.

SUMMARY: GIPSA requests comments on the applicant for designation to provide official services in Southwest Arizona.

DATES: Comments must be postmarked or electronically dated on or before March 10, 2005.

ADDRESSES: We invite you to submit applications and comments on this notice. You may submit applications and comments by any of the following methods:

• Hand Delivery or Courier: Deliver to Janet M. Hart, Chief, Review Branch, Compliance Division, GIPSA, USDA, Room 1647-S, 1400 Independence Avenue, SW., Washington, DC 20250.

• Fax: Send by facsimile transmission to (202) 690-2755, attention: Janet M. Hart.

• E-mail: Send via electronic mail to Janet.M.Hart@usda.gov.

• Mail: Send hardcopy to Janet M. Hart, Chief, Review Branch, Compliance Division, GIPSA, USDA, STOP 3604, 1400 Independence Avenue, SW., Washington, DC 20250-3604.

Read Applications and Comments: All applications and comments will be available for public inspection at the office above during regular business hours (7 CFR 1.27(b)).

FOR FURTHER INFORMATION CONTACT: Janet M. Hart, at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the December 8, 2004, Federal Register (69 FR 70993) GIPSA asked for applicants for Maricopa, Pinal, Santa Cruz, and Yuma Counties, Arizona.

There was one applicant for the Southwest Arizona area. Richard Dan Prince, proposing to do business as Farwell Commodity and Grain Service, Inc., applied for designation in the entire area named in the December 8, 2004, Federal Register.

GIPSA is publishing this notice to provide interested persons the opportunity to present comments concerning the applicants. Commenters are encouraged to submit reasons and pertinent data for support or objection to the designation of the applicants. All comments must be submitted to the Compliance Division at the above address. Comments and other available information will be considered in making a final decision. GIPSA will publish notice of the final decision in the Federal Register, and GIPSA will send the applicants written notification of the decision.

Authority: Pub. L. 94-582, 90 Stat. 2867, as amended (7 U.S.C. et seq.).

Dated: February 3, 2005.
David R. Shipman,
Deputy Administrator, Grain Inspection, Packers and Stockyards Administration.

[FR Doc. 05-2386 Filed 2-7-05; 8:45 am]

BILLING CODE 3410-EN-P